DEPARTMENT OF HEALTH AND HUMAN SERVICES

Health Care Financing Administration

[HCFA-3069-N]

Medicare Program; Meeting of the Executive Committee of the Medicare Coverage Advisory Committee—June 14, 2001

AGENCY: Health Care Financing Administration (HCFA), HHS.

ACTION: Notice of meeting.

SUMMARY: This notice announces a public meeting of the Executive Committee (the Committee) of the Medicare Coverage Advisory Committee (MCAC). The Committee will do the following:

• Act on the February 21, 2001 recommendations of the Medical Devices and Prosthetics Panel regarding Ambulatory Blood Pressure Monitoring.

• Discuss the “Interim Guidelines—Recommendations for Evaluating Effectiveness,” prepared by the Executive Committee to assist panels in consistently judging the scientific evidence of a particular topic (also available on the HCFA website at www.hcfa.gov/coverage).

• Discuss the future role of the Committee, in light of the provisions of the Medicare, Medicaid, and SCHIP Benefits Improvement and Protection Act of 2000 that removes the requirement that the Committee ratify all medical specialty panel recommendations.

• Discuss the contents of, and framing the questions for, a future presentation of “neuroimaging for dementia” to be presented to the Diagnostic Imaging Panel later this year.

Notice of this meeting is given under the Federal Advisory Committee Act (5 U.S.C. App. 2, section 10(a)(1) and (a)(2)).

DATES: The Meeting: June 14, 2001, from 8 a.m. until 4 p.m., E.D.T.

Deadline for Presentations and Comments: June 1, 2001, 5 p.m., E.D.T.

Special Accommodations: Persons attending the meeting who are hearing impaired and require sign language interpretation, or have a condition that requires other special assistance or accommodations, are asked to notify the Executive Secretary by June 1, 2001.

ADDRESSES: The Meeting: The meeting will be held at the Baltimore Convention Center, Room 339, One West Pratt Street, Baltimore, Maryland 21201.

Presentations and Comments: Submit formal presentations and written comments to Constance A. Conrad, Executive Secretary; Office of Clinical Standards and Quality; Health Care Financing Administration; 7500 Security Boulevard; Mail Stop S3-02-01; Baltimore, MD 21244.

Website: You may access up-to-date information on this meeting at www.hcfa.gov/coverage.

Hotline: You may access up-to-date information on this meeting on the HCFA Advisory Committee Information Hotline, 1-877-449-5659 (toll free) or in the Baltimore area (410) 786-9379.

FOR FURTHER INFORMATION CONTACT: Constance A. Conrad, Executive Secretary, 410-786-4631.

SUPPLEMENTARY INFORMATION: On August 13, 1999, we published a notice (64 FR 44231) announcing a meeting of the Drugs, Biologics, and Therapeutics Panel and also describing the Medicare Coverage Advisory Committee (MCAC), which provides advice and recommendations to us about clinical issues. This notice announces the June 14, 2001 public meeting of Executive Committee (the Committee) of the MCAC.

Current Committee Members

Harold C. Sox, MD (Chairperson); Thomas V. Holohan, MD (FACP); Leslie P. Francis, JD, PhD; John H. Ferguson, MD; Robert L. Murray, PhD; Alan M. Garber, MD, PhD; Michael D. Maves, MD, MBA; Frank J. Papatheofanis, MD, PhD; Barbara J. McNeil, MD; Ronald M. Davis, MD; Daisy Alford-Smith, PhD; Joe W. Johnson, DC; Robert H. Brook, MD, ScD; Linda A. Bergthold, PhD; Randel E. Richner, MPH.

Meeting Topic

The Committee of the MCAC will do the following:

• Act on the February 21, 2001 recommendations of the Medical Devices and Prosthetics Panel regarding Ambulatory Blood Pressure Monitoring.

• Discuss the “Interim Guidelines—Recommendations for Evaluating Effectiveness,” prepared by the Executive Committee to assist panels in consistently judging the scientific evidence of a particular topic (also available at www.hcfa.gov/coverage).

• Discuss the future role of the Committee, in light of the provisions of the Medicare, Medicaid, and SCHIP Benefits Improvement and Protection Act of 2000 that removes the requirement that the Committee ratify all medical specialty panel recommendations.

• Discuss the contents of, and framing the questions for, a future presentation of “neuroimaging for dementia” to be presented to the Diagnostic Imaging Panel later this year.

Procedure and Agenda

This meeting is open to the public. The Committee will hear oral presentations from the public for approximately 1 hour. The Committee may limit the number and duration of oral presentations to the time available. If you wish to make formal presentations, you must notify Executive Secretary Constance A. Conrad, in the FOR FURTHER INFORMATION CONTACT section of this notice, and submit the following by the Deadline for Presentations and Comments date listed in the DATES section of this notice: A brief statement of the general nature of the evidence or arguments you wish to present and the names and addresses of proposed participants. A written copy of your presentation must be provided to the Executive Secretary before the meeting. We will request that you declare at the meeting whether or not you have any financial involvement with manufacturers of any items or services being discussed (or with their competitors).

After the public presentations, we will make a presentation to the Committee. Then, the Committee will deliberate openly. Interested persons may observe the deliberations, but the Committee will not hear further comments during this time except at the request of the chairperson. The Committee will allow an approximately 30-minute open public session for any attendee to address issues specific to the topic. After that open session, the members will vote, and the Committee will make its recommendation.

Authority: 5 U.S.C. App. 2, section 10(a)(1) and (a)(2).

(Catalog of Federal Domestic Assistance Program No. 93.774, Medicare—Supplementary Medical Insurance Program)
Dated: May 8, 2001.
Jeffrey L. Kang,
Director, Office of Clinical Standards and Quality, Health Care Financing Administration.

[FR Doc. 01-12582 Filed 5-17-01; 8:45 am]

BILLING CODE 4120-01-P